DEPARTMENT OF COMMERCE

International Trade Administration

[A-570-848]

Freshwater Crawfish Tail Meat From the People's Republic of China: Notice of Final Results of New Shipper Antidumping Duty Review

AGENCY: Import Administration, International Trade Administration, Department of Commerce.

ACTION: Notice of final results of new shipper antidumping duty review.

SUMMARY: On March 15, 2000, the Department of Commerce (the Department) published the preliminary results of the new shipper review of sales to the United States by Yancheng Haiteng Aquatic Products & Foods Co., Ltd. (Yancheng Haiteng) of freshwater crawfish tail meat (crawfish) from the People's Republic of China (PRC) (65 FR 13939). This review covers the period September 1, 1998 through February 28, 1999. We received no comments on our preliminary results, but we have made changes to the program to account for clerical errors. In addition, we revised our results to reflect information received from the U.S. Customs Service. The final weighted-average dumping margin for Yancheng Haiteng is listed below in the section entitled Final Results of the Review.

EFFECTIVE DATE: August 4, 2000.

FOR FURTHER INFORMATION CONTACT: Thomas Gilgunn or Sarah Ellerman, AD/CVD Enforcement Group III, Import Administration, U.S. Department of Commerce, 14th Street and Constitution Avenue, N.W., Washington, D.C. 20230, telephone: (202) 482-0648 or (202) 482-4106, respectively.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department's regulations are to 19 CFR Part 351 (1999).

Background

On March 15, 2000, the Department published preliminary results of a new shipper review of the antidumping order on crawfish from the PRC for Yancheng Haiteng (65 FR 13939). We invited parties to comment on our preliminary results of review. We received no comments. The Department has conducted this new shipper review in accordance with section 751 of the Act.

Scope of Review

The product covered by this review is freshwater crawfish tail meat, in all its forms (whether washed or with fat on, whether purged or unpurged), grades and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 0306.19.00.10 and 0306.29.00.00. The HTSUS subheadings are provided for convenience and Customs purposes only. The written description of the scope of this order is dispositive.

Comments From Interested Parties and Changes Since the Preliminary Results

We received no comments from interested parties in response to our preliminary results. We corrected clerical errors made in the preliminary results. For more information regarding these corrections, see the Memorandum to the File From Sarah Ellerman; Analysis for the Final Results of New Shipper Review of Freshwater Crawfish Tail Meat from the People's Republic of China: Yancheng Haiteng Aquatic Products and Foods, Co., Ltd., dated July 24, 2000.

In addition, we received certain information from the U.S. Customs Service. As a result of this new information, we applied facts available to Yancheng Haiteng. For more information, refer to the Memorandum to Troy H. Cribb from Joseph A. Spetrini; Issues for the Final Results of New Shipper Review of Freshwater Crawfish Tail Meat From the People's Republic of China; Yancheng Haiteng Aquatic Products and Foods Co., Ltd., dated July 24, 2000.

Final Results of Review

We determine that the following percentage weighted-average margin exists for the period September 1, 1998 through February 28, 1999:

Manufacturer/exporter | Margin (percent)
Yancheng Haiteng Aquatic Products & Foods Co., Ltd | 36.42

The Department shall determine, and the U.S. Customs Service shall assess, antidumping duties on all appropriate entries. The Department will issue appropriate instructions directly to the U.S. Customs Service. Furthermore, the following cash deposit rates will be effective upon publication of this notice of final results of review for all shipments of freshwater crawfish tail meat from the PRC entered, or withdrawn from warehouse, for consumption on or after the publication date, as provided by section 751(a)(2)(C) of the Act: (1) for Yancheng Haiteng, which was found to merit a separate rate for the final results of this review, the cash deposit rate will be the rate stated above; (2) for previously-reviewed PRC and non-PRC exporters with separate rates, the cash deposit rate will be the company-specific rate established for the most recent period; (3) for all other PRC exporters, the cash deposit rate will be the PRC-wide rate, 201.63 percent; and (4) for non-PRC exporters of subject merchandise from the PRC, the cash deposit rate will be the rate applicable to the PRC supplier of that exporter. These deposit rates, when imposed, shall remain in effect until publication of the final results of the next administrative review.

Dated: July 24, 2000.
Troy H. Cribb,
Acting Assistant Secretary for Import Administration.

[FR Doc. 00-19829 Filed 8-3-00; 8:45 am]

BILLING CODE 3510-DS-P